DEPARTMENT OF COMMERCE

National Oceanic and Atmospheric Administration

50 CFR Part 600

[I.D. 071003A]

Magnuson-Stevens Act Provisions; General Provisions for Domestic Fisheries; Application for Exempted Fishing Permit (EFP)

AGENCY: Department of Commerce, National Oceanic and Atmospheric Administration (NOAA), National Marine Fisheries Service (NMFS).

ACTION: Notification of a proposal for EFPs to conduct experimental fishing; request for comments.

SUMMARY: The Administrator, Northeast Region, NMFS (Regional Administrator) has made a preliminary determination that the subject EFP application contains all the required information and warrants further consideration. The Regional Administrator has also made a preliminary determination that the activities authorized under the EFP would be consistent with the goals and objectives of the Northeast (NE) Multispecies Fishery Management Plan (FMP) and the Fishery Management Plan for Atlantic Tunas, Swordfish and Sharks (Highly Migratory Species (HMS) FMP). However, further review and consultation may be necessary before a final determination is made to issue the EFP. Therefore, NMFS announces that the Regional Administrator proposes to issue EFPs in response to an application submitted by the East Coast Tuna Association (ECTA) that would allow five purse seine vessels to fish for giant Atlantic bluefin tuna (Thunnus thynnus) in NE multispecies year-round Closed Area I, where use of purse seine gear is currently prohibited. The EFP would exempt these vessels from the gear restrictions for the Georges Bank Regulated Mesh Area. The purpose of the study is to collect information regarding bycatch of, and interactions of purse seine gear with, groundfish species, other species, and marine mammals, and to record contact with the ocean bottom or with any Essential Fish Habitat (EFH). The results of this EFP would allow NMFS and the New England Fishery Management Council (Council) to evaluate the feasibility of allowing purse seine gear in Closed Area I as an exempted gear on a permanent basis. Regulations under the Magnuson-Stevens Fishery Conservation and Management Act require publication of this notification to provide interested parties the opportunity to comment on applications for proposed EFPs.

DATES: Comments on this document must be received on or before August 5, 2003.

ADDRESSES: Written comments should be sent to Patricia A. Kurkul, Regional Administrator, NMFS, Northeast Regional Office, 1 Blackburn Drive, Gloucester, MA 01930. Mark the outside of the envelope “Comments on EFP Proposal.” Comments may also be sent via facsimile (fax) to (978) 281-9135.

Copies of the draft Environmental Assessment (EA) are available from the Northeast Regional Office at the same address.

FOR FURTHER INFORMATION CONTACT: Douglas W. Christel, Fishery Management Specialist, 978-281-9141.

SUPPLEMENTARY INFORMATION:

Background

The Georges Bank and Southern New England (GB/SNE) NE multispecies year-round closed areas were established under the FMP to provide protection to concentrations of regulated multispecies--particularly cod, haddock, and yellowtail flounder. Consequently, all fishing in these year-round closed areas was prohibited, with a few exceptions. The only exceptions allowing access to the closed areas were fishing activities known to have a very low incidence of NE multispecies bycatch. For example, pelagic midwater trawl gear was determined to have a negligible catch of NE regulated multispecies because the gear fishes well off the ocean floor. As a result, it is an allowed gear in the GB/SNE NE multispecies closed areas.

Purse seine gear is typically used to target pelagic species such as herring, mackerel, and tuna that are concentrated at or near the surface of the ocean. This type of gear is not designed or intended to fish for species at or near the ocean floor, and is typically considered to have very little interaction with bottom-dwelling species such as groundfish.

Observer data from the 1996 tuna purse seine fishery, the last year the fishery carried full-time observers, documented a small catch of NE regulated groundfish, other demersal species, and bottom debris (i.e., sponges and empty shells) in 20 out of 39 observed sets. Out of these 20 sets, only 4 occurred inside Closed Area I, in depths ranging from 28 to 35 fathoms (fm) (51 - 64 meters (m)). In 2000, EFPs were issued to four purse seine vessels to collect information on the interaction between purse seine gear and demersal species and their habitat, specifically in Closed Area I. Data from the five observed trips in Closed Area I from the 2000 tuna purse seine experimental fishery did not show any bycatch of demersal species. These sets occurred in depths ranging from 55 to 86 fm (100 - 157 m). In 2001, EFPs were issued to all five vessels authorized to fish for bluefin tuna with purse seine gear. During this experiment, four trips were made into Closed Area I. On a single trip, one of the participating vessels made three sets inside Closed Area I in depths ranging from 40 to 60 fm (73 - 110 m). Although one basking shark was caught and later released alive, no other interactions with non-target or protected species and no bycatch of NE regulated multispecies occurred during the 2001 experimental fishery. During the 2002 experimental fishery, four of the five purse seine boats issued EFPs made 32 sets in Closed Area I. There was no bycatch of demersal finfish, no interaction with the bottom, and no interaction with either marine mammals or sharks.

A fourth experimental fishery has been requested by ECTA in order to ascertain, definitively, whether there will be any significant interactions between purse seine gear and NE multispecies and EFH. The Council is considering an exemption for tuna purse seine gear within all groundfish closed areas as part of Amendment 13 to the FMP.

Proposed EFP

The proposed EFP would exempt five purse seine vessels fishing for giant Atlantic bluefin tuna under 50 CFR part 635 from the gear restrictions of Closed Area I, as described at 50 CFR 648.81(a). Similar to the 2000, 2001, and 2002 purse seine experimental fisheries in Closed Area I, no more than five vessels would be authorized to participate.

The applicant has requested that the experimental fishery begin on July 15, 2003, and continue through the end of the calendar year on December 31, 2003. However, because of the timing of the application and the length of time required to fully review the application, this EFP, if approved, would be issued as soon as possible, but necessarily after the requested July 15, 2003, date.

The tuna purse seine fishing season is not scheduled to begin until August 15, 2003. However, NMFS is reviewing another request by the ECTA to issue an EFP that would start the tuna purse seine fishing season on July 15, 2003, instead of August 15, 2003. Therefore, the exempted fishery that would allow tuna purse seine vessels into Closed Area I may begin prior to August 15, 2003, contingent upon the approval of the EFP to begin the purse seine fishing season earlier. The EFP would continue in effect until the five vessels have achieved their individual fishing quotas, or the end of the 2003 calendar year, whichever occurs first. Although these individual quotas may be taken prior to December 31, they are typically taken by the middle of October. Because the bluefin tuna fishery takes place throughout the waters off New England, and the concentrations of fish often move between areas, it is likely that the fishery would take place within Closed Area I for only a few weeks, at the most.

Vessel captains would be required to record information on bottom depth, depth of net, mesh size used, location of set, information on any bycatch species, any interactions between the net and the bottom, and any incidental take of marine mammals or protected species. Any NE multispecies that are captured during fishing activities would be required to be discarded after measurement.

EAs that analyzed the impacts of the experimental tuna purse seine fishery on the human environment were prepared for the 2000 and 2001 experimental fisheries. A supplement to the 2001 EA was prepared for the 2002 EFP. These documents concluded that the activities that were conducted under the EFP are consistent with the goals and objectives of the FMP, are consistent with the HMS FMP, and will have no significant environmental impacts. The EAs also considered the impacts of the EFP activities on EFH, marine mammals, and protected species and found that the proposed exempted tuna purse seine fishery would have no significant impact on EFH, marine mammals, or protected species. An EA was prepared for the 2003 experimental fishery, which incorporates the results of the 2001 and 2002 exempted fisheries, addresses the cumulative impacts of the proposed 2003 exempted fishery, and recommends a finding of no significant impact.

NOAA Fisheries believes that one additional EFP will provide the necessary data to determine conclusively that there is minimal interaction between purse seine gear and NE multispecies and EFH. The Regional Administrator, therefore, has made a preliminary determination to issue an Exempted Fishing Permit to ECTA.

If approved, EFPs would be issued to the five participating vessels to exempt them from the restrictions of Closed Area I of the FMP.

Based on the results of this EFP, this action may lead to further rulemaking.

Authority: 16 U.S.C. 1801 et seq.

Dated: July 15, 2003.
Virginia M. Fay,
Acting Director, Office of Sustainable Fisheries, National Marine Fisheries Service.

[FR Doc. 03-18488 Filed 7-18-03; 8:45 am]

BILLING CODE 3510-22-S